DEPARTMENT OF THE INTERIOR

National Park Service

[NPS-WASO-NAGPRA-NPS0033383; PPWOCRADN0-PCU00RP14.R50000]

Notice of Inventory Completion: Anniston Museum of Natural History, Anniston, AL; Correction

AGENCY: National Park Service, Interior.

ACTION: Notice; correction.

SUMMARY: The Anniston Museum of Natural History has corrected an inventory of human remains and associated funerary objects, published in a Notice of Inventory Completion in the Federal Register on August 10, 2018. This notice corrects the cultural affiliation. Lineal descendants or representatives of any Indian Tribe or Native Hawaiian organization not identified in this notice that wish to request transfer of control of these human remains and associated funerary objects should submit a written request to the Anniston Museum of Natural History. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Anniston Museum of Natural History at the address in this notice by March 14, 2022.

FOR FURTHER INFORMATION CONTACT: Daniel D. Spaulding, Anniston Museum of Natural History, 800 Museum Drive, Anniston, AL 36206, telephone (256) 237-6766, email dspaulding@annistonmuseum.org.

SUPPLEMENTARY INFORMATION: Notice is here given in accordance with the Native American Graves Protection and Repatriation Act (NAGPRA), 25 U.S.C. 3003, of the correction of an inventory of human remains and associated funerary objects under the control of the Anniston Museum of Natural History, Anniston, AL. The human remains and associated funerary objects were removed from Moundville in Tuscaloosa County, AL.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the cultural affiliation published in a Notice of Inventory Completion in the Federal Register (83 FR 39776-39777, August 10, 2018). Transfer of control of the items in this correction notice has not occurred.

Correction

In the Federal Register (83 FR 39776, August 10, 2018), column 3, sentence 1 under the heading “Summary” is corrected by substituting the following sentence:

The Anniston Museum of Natural History has completed an inventory of human remains and associated funerary objects, in consultation with the appropriate Indian Tribes or Native Hawaiian organizations, and has determined that there is a cultural affiliation between the human remains and associated funerary objects and present-day Indian Tribes or Native Hawaiian organizations.

In the Federal Register (83 FR 39777, August 10, 2018), column 1, paragraph 4, under the heading “Determinations Made by the Anniston Museum of Natural History,” is corrected by substituting the following paragraph:

Officials of the Anniston Museum of Natural History have determined that:

• Pursuant to 25 U.S.C. 3001(9), the human remains described in this notice represent the physical remains of two individuals of Native American ancestry.

• Pursuant to 25 U.S.C. 3001(3)(A), the 10 objects described in this notice are reasonably believed to have been placed with or near individual human remains at the time of death or later as part of the death rite or ceremony.

• Pursuant to 25 U.S.C. 3001(2), there is a relationship of shared group identity that can be reasonably traced between the Native American human remains and associated funerary objects and the Alabama-Coushatta Tribe of Texas [previously listed as Alabama-Coushatta Tribes of Texas]; Coushatta Tribe of Louisiana; Jena Band of Choctaw Indians; Seminole Tribe of Florida [previously listed as Seminole Tribe of Florida (Dania, Big Cypress, Brighton, Hollywood, & Tampa Reservations)]; The Chickasaw Nation; The Choctaw Nation of Oklahoma; The Muscogee (Creek) Nation; and The Seminole Nation of Oklahoma (hereafter referred to as “The Tribes”).

Additional Requestors and Disposition

Lineal descendants or representatives of any Indian Tribe or Native Hawaiian organization not identified in this notice that wish to request transfer of control of these human remains and associated funerary objects should submit a written request with information in support of the request to Daniel D. Spaulding, Anniston Museum of Natural History, 800 Museum Drive, Anniston, AL 36206, telephone (256) 237-6766, email dspaulding@annistonmuseum.org, by March 14, 2022. After that date, if no additional requestors have come forward, transfer of control of the human remains and associated funerary objects to The Tribes may proceed.

The Anniston Museum of Natural History is responsible for notifying the Cherokee Nation; Eastern Band of Cherokee Indians; United Keetoowah Band of Cherokee Indians in Oklahoma; and The Tribes that this notice has been published.

Dated: February 3, 2022.
Melanie O'Brien,
Manager, National NAGPRA Program.

[FR Doc. 2022-02979 Filed 2-10-22; 8:45 am]

BILLING CODE 4312-52-P